DEPARTMENT OF EDUCATION

34 CFR Parts 606, 607, 611, 637, 648, 656, 657, 658, 660, 661, 662, 663, 664, and 669

Higher Education Programs

AGENCY: Office of Postsecondary Education, Department of Education.

ACTION: Notice of proposed rulemaking.

SUMMARY: The proposed regulations will remove all references to points in the selection criteria the Department of Education (Department) uses to evaluate applications submitted under the higher education discretionary grant programs. We are proposing this action because the current point assignments are outdated and do not permit sufficient flexibility to establish important program objectives. Taking this action will allow us that flexibility and ensure grant awards are made to high quality applicants.

The proposed regulations also would remove the requirement that in competitions for grants under the Partnership and Teacher-Recruitment components of the Teacher Quality Enhancement Grants Program, the Secretary hold a two-stage competition in which applicants must submit a pre-application and a full application. The current structure has not proven effective in producing high quality applications for this program. Removing the requirement for a pre-application will reduce burden on applicants and the Department and allow both to target their resources on the full application stage.

There are some amendments in the proposed regulations that are purely technical corrections to the regulations.

DATES: We must receive your comments on or before January 21, 2005.

ADDRESSES: Address all comments about these proposed regulations to Lorraine Kennedy, U.S. Department of Education, PO Box 33553, Washington, DC 20033 or by e-mail at the following address: DiscretionaryGrantcomments@ed.gov. You may also send your comments to us through the Internet at the U.S. Government Web site: http://www.regulations.gov.

If you want to comment on the information collection requirements, you must send your comments to the Office of Management and Budget at the address listed in the Paperwork Reduction Act section of this preamble. You may also send a copy of these comments to the Department representative named in this section.

FOR FURTHER INFORMATION CONTACT: Lorraine Kennedy, U.S. Department of Education, 1990 K Street, NW., room 8018, Washington, DC 20006-8544. Telephone: (202) 502-7762. Pamela Maimer, U.S. Department of Education, 1990 K Street, NW., room 8014, Washington, DC 20006-8544. Telephone: (202) 502-7704.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

Invitation To Comment

We invite you to submit comments regarding these proposed regulations.

We invite you to assist us in complying with the specific requirements of Executive Order 12866 and its overall requirement of reducing regulatory burden that might result from these proposed regulations. Please let us know of any further opportunities we should take to reduce potential costs or increase potential benefits while preserving the effective and efficient administration of the program.

During and after the comment period, you may inspect all public comments about these proposed regulations in room 8054, 1990 K Street, NW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed regulations. If you want to schedule an appointment for this type of aid, please contact one of the individuals listed under FOR FURTHER INFORMATION CONTACT.

SUPPLEMENTARY INFORMATION: The Secretary proposes to amend 34 CFR parts 606, 607, 637, 648, 656, 657, 658, 660, 661, 662, 663, 664, and 669 by removing the mandatory point values from the selection criteria in the regulations associated with the application process for discretionary grant programs. The current regulations that mandate specific point values to the selection criteria in these discretionary grant programs are out-of-date. The proposed regulations would give the Secretary the flexibility to select specific point values from year to year to address current priorities for the programs. The removal of the mandatory point values from the selection criteria for these grant programs is also consistent with the manner in which the Department assigns points to selection criteria for many other discretionary grant programs.

The Secretary also proposes to amend the regulations in 34 CFR part 611, which govern the Teacher Quality Enhancement Grants (TQE) program. The effect of these amendments would be to make discretionary the existing requirement that in competitions for grants under the program's Partnership and Teacher-Recruitment components, the Secretary conduct a two-stage process for selecting applicants involving the submission and review of pre-applications and full applications. We adopted the two-stage process in 2000 in the belief that by inviting full applications only from those applicants that, on the basis of the pre-applications, showed promise of being able to submit high-quality full applications, we would decrease total burden on all applicants and, at the same time, enable those who review and score applications to focus on those with the most promise of being funded. See the notice of proposed rulemaking published in the Federal Register on February 11, 2000 at 65 FR 6939. However, under this process, not only has the Department historically received many fewer applications than anticipated, but it also has little evidence that the use of a pre-application stage has helped to promote the Department's receipt of high-quality full applications for either component of the TQE program. As a result, burden has not been reduced but rather has been inadvertently increased without any commensurate return in quality applications. While wishing to reserve the ability to use a two-stage review process should circumstances change, and given its experience, the Department now wishes to have the option of utilizing a single-stage application process as is the typical procedure in other discretionary grant programs.

Executive Order 12866

1. Potential Costs and Benefits

Under Executive Order 12866, we have assessed the potential costs and benefits of this regulatory action.

The potential costs associated with the proposed regulations are those resulting from statutory requirements and those we have determined to be necessary for administering these programs effectively and efficiently. Elsewhere in this SUPPLEMENTARY INFORMATION section we identify and explain burdens specifically associated with information collection requirements. See the heading Paperwork Reduction Act of 1995.

In assessing the potential costs and benefits—both quantitative and qualitative—of this regulatory action, we have determined that the benefits would justify the costs.

We have also determined that this regulatory action would not unduly interfere with State, local, and tribal governments in the exercise of their governmental functions.

2. Clarity of Regulations

Executive Order 12866 and the Presidential memorandum of June 11, 1988 on “Plain Language in Government Writing” require each agency to write regulations that are easy to understand.

The Secretary invites comments on how to make these proposed regulations easier to understand, including answers to questions such as the following:

• Are the requirements in the proposed regulations clearly stated?

• Do the proposed regulations contain technical terms or other working that interferes with their clarity?

• Does the format of the proposed regulations (grouping and order of sections, use of headings, paragraphing, etc.) aid or reduce their clarity?

• Would the proposed regulations be easier to understand if we divided them into more (but shorter) sections? (A “section” is preceded by the symbol “§ ” and a numbered heading; for example, § 606.20 How does the Secretary choose applications for funding?)

• Could the description of the proposed regulations in the SUPPLEMENTARY INFORMATION section of this preamble be more helpful in making the proposed regulations easier to understand? If so, how?

• What else could we do to make the proposed regulations easier to understand?

Send any comments that concern how the Department could make these proposed regulations easier to understand to the person listed in the ADDRESSES section of the preamble.

Regulatory Flexibility Act Certification

The Secretary certifies that these proposed regulations would not have a significant economic impact on a substantial number of small entities. Small entities affected by these regulations are small institutions of higher education. The changes will not have a significant economic impact on the institutions affected.

Paperwork Reduction Act of 1995

Sections 606.20, 606.21, 606.22, 606.23, 607.20, 607.21, 607.22, 607.23, 611.2, 611.3, 637.31, 637.32, 648.30, 648.31, 656.20, 656.21, 656.22, 657.20, 657.21, 658.30, 658.31, 658.32, 658.33, 660.30, 660.31, 660.32, 660.33, 661.30, 661.31, 662.21, 663.21, 664.30, 664.31, 669.20, and 669.21 contain information collection requirements. Under the Paperwork Reduction Act of 1995 (44 U.S.C. 3057(d)), the Department of Education has submitted a copy of these sections to the Office of Management and Budget (OMB) for its review.

The information collection would apply to applications for awards submitted under certain higher education discretionary grant programs and the Teacher Quality Program. The likely respondents would be State agencies and two and four-year degree granting institutions. This collection of information is necessary for applicants to apply for new grants under the regulations for these discretionary grant programs. Grants will be awarded on the basis of competitively reviewed applications submitted to the U.S. Department of Education, Office of Postsecondary Education.

If you want to comment on the information collection requirements, please send your comments to the Office of Information and Regulatory Affairs, OMB, room 10235, New Executive Office Building, Washington, DC 20503; Attention: Desk Officer for U.S. Department of Education. You may also send a copy of these comments to the Department representative named in the ADDRESSES section of this preamble.

We consider your comments on these proposed collections of information in—

• Deciding whether the proposed collections are necessary for the proper performance of our functions, including whether the information will have practical use;

• Evaluating the accuracy of our estimate of the burden of the proposed collections, including the validity of our methodology and assumptions;

• Enhancing the quality, usefulness, and clarity of the information we collect; and

• Minimizing the burden on those who must respond. This includes exploring the use of appropriate automated, electronic, mechanical, or other technological collection techniques or other forms of information technology (e.g., permitting electronic submission of responses).

OMB is required to make a decision concerning the collections of information contained in these proposed regulations between 30 and 60 days after publication of this document in the Federal Register. Therefore, to ensure that OMB gives your comments full consideration, it is important that OMB receives the comments within 30 days of publication. This does not affect the deadline for your comments to us on the proposed regulations.

Intergovernmental Review

The discretionary grant programs and the Teacher Quality Enhancement Grants Program are not subject to Executive Order 12372 and the regulations in 34 CFR part 79.

Assessment of Educational Impact

The Secretary particularly requests comments on whether these proposed regulations would require transmission of information that any other agency or authority of the United States gathers or makes available.

Electronic Version of Documents

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

List of Subjects

34 CFR Parts 606 and 607

Colleges and universities, Grant programs-education, Reporting and recordkeeping requirements.

34 CFR Part 611

Colleges and universities, Elementary and secondary education, Grant programs—education.

34 CFR Part 637

Colleges and universities, Educational study programs, Equal educational opportunity, Grant programs-education, Reporting and recordkeeping requirements, Science and technology, Women.

34 CFR Part 648

Colleges and universities, Grant programs-education, Reporting and recordkeeping requirements, Scholarships and fellowships.

34 CFR Part 656

Colleges and universities, Cultural exchange programs, Educational study programs, Grant programs—education, Reporting and recordkeeping requirements.

34 CFR Part 657

Colleges and universities, Cultural exchange programs, Educational study programs, Grant programs—education, Reporting and recordkeeping requirements, Scholarships and fellowships.

34 CFR Part 658

Colleges and universities, Cultural exchange programs, Educational study programs, Grant programs—education.

34 CFR Part 660

Colleges and universities, Cultural exchange programs, Educational Research, Educational study programs, Grant programs—education.

34 CFR Part 661

Business and industry, Colleges and universities, Educational study programs, Grant programs—education, Student aid.

34 CFR Part 662

Colleges and universities, Educational Research, Educational study programs, Grant programs—education, Scholarships and fellowships.

34 CFR Parts 663

Colleges and universities, Educational Research, Educational study programs, Grant programs—education, Scholarships and fellowships, Teachers.

34 CFR Parts 664

Colleges and universities, Educational Research, Educational study programs, Grant programs—education, Teachers.

34 CFR Parts 669

Colleges and universities, Educational Research, Educational study programs, Grant programs—education, Reporting and recordkeeping requirements, Teachers.

Dated: December 17, 2004.
Sally L. Stroup,
Assistant Secretary for Postsecondary Education.

For the reasons discussed in the preamble, the Secretary proposes to amend parts 606, 607, 611, 637, 648, 656, 657, 658, 660, 661, 662, 663, 664, and 669 of title 34 of the Code of Federal Regulations as follows:

PART 606—DEVELOPING HISPANIC-SERVING INSTITUTIONS PROGRAM

1. The authority citation for part 606 continues to read as follows:

Authority: 20 U.S.C. 1101 et seq., unless otherwise noted.

2. Section 606.20 is amended by—

A. Revising paragraph (b);

B. In paragraph (c)(1), removing the words “scores at least 50 points” and adding, in their place, the words “meets the requirements”; and

C. Removing paragraph (c)(2)(i) and redesignating paragraphs (c)(2)(ii) and (c)(2)(iii) as paragraphs (c)(2)(i) and (c)(2)(ii), respectively.

The revision reads as follows:

§ 606.20 How does the Secretary choose applications for funding?

* * * * *

(b) The Secretary informs applicants of the maximum possible score for each criterion in the application package or in a notice published in the Federal Register.

* * * * *

3. Section 606.21 is amended by—

A. Removing all of the parentheticals that end in “points)”; and

B. Revising the introductory text to read as follows:

§ 606.21 What are the selection criteria for planning grants?

The Secretary evaluates an application for a planning grant on the basis of the criteria in this section.

* * * * *

4. Section 606.22 is amended by—

A. Revising the introductory text;

B. Removing all of the parentheticals that end in “points)”;

C. In paragraphs (a)(1) and (a)(2), removing the punctuation “.”; and

D. In paragraph (a)(3), adding the word “and” after the punctuation “;”.

The revision reads as follows:

§ 606.22 What are the selection criteria for development grants?

The Secretary evaluates an application for a development grant on the basis of the criteria in this section.

* * * * *

5. Section 606.23 is amended by—

A. Removing all of the parentheticals that end in “point)”; and

B. Revising the introductory text of paragraphs (a) and (b) to read as follows:

§ 606.23 What special funding consideration does the Secretary provide?

(a) If funds are available to fund only one additional planning grant and each of the next fundable applications has received the same number of points under § 606.20 or 606.21, the Secretary awards additional points, as provided in the application package or in a notice published in the Federal Register, to any of those applicants that—

* * * * *

(b) If funds are available to fund only one additional development grant and each of the next fundable applications has received the same number of points under § 606.20 or 606.22, the Secretary awards additional points, as provided in the application package or in a notice published in the Federal Register, to any of those applicants that—

* * * * *

PART 607—STRENGTHENING INSTITUTIONS PROGRAM

6. The authority citation for part 607 continues to read as follows:

Authority: 20 U.S.C. 1507-1509c, 1066-1069f, unless otherwise noted.

7. Section 607.20 is amended by—

A. Removing paragraph (c) and redesignating paragraphs (b)(1) and (2) as paragraphs (c)(1) and (2), respectively;

B. In redesignated paragraph (c)(2), removing the reference to “(b)(1)” and adding, in its place, the reference “(c)(1)”;

C. Adding a new paragraph (b); and

D. Revising paragraph (d).

The addition and revision read as follows:

§ 607.20 How does the Secretary choose applications for funding?

* * * * *

(b) The Secretary informs applicants of the maximum possible score for each criterion in the application package or in a notice published in the Federal Register.

* * * * *

(d) The Secretary considers funding an application for a development grant that—

(1) Is submitted with a comprehensive development plan that satisfies all the elements required of such a plan under § 607.8; and

(2) In the case of an application for a cooperative arrangement grant, demonstrates that the grant will enable each eligible participant to meet the goals and objectives of its comprehensive development plan better and at a lower cost than if each eligible participant were funded individually.

* * * * *

8. Section 607.21 is amended by—

A. Removing all of the parentheticals that end in “points)”; and

B. Revising the introductory text to read as follows:

§ 607.21 What are the selection criteria for planning grants?

The Secretary evaluates an application for a planning grant on the basis of the criteria in this section.

* * * * *

9. Section 607.22 is amended by—

A. Revising the introductory text;

B. Removing all of the parentheticals that end in points)”;

C. In paragraphs (a)(1) and (a)(2), removing the punctuation “.”; and

D. In paragraph (a)(3), adding the word “and” after the punctuation “;”.

The revision reads as follows:

§ 607.22 What are the selection criteria for development grants?

The Secretary evaluates an application for a development grant on the basis of the criteria in this section.

* * * * *

10. Section 607.23 is amended by—

A. Removing all of the parentheticals that end in “point)”; and

B. Revising the introductory text of paragraphs (a) and (b) to read as follows:

§ 607.23 What special funding consideration does the Secretary provide?

(a) If funds are available to fund only one additional planning grant and each of the next fundable applications has received the same number of points under § 607.20 or 607.21, the Secretary awards additional points, as provided in the application package or in a notice published in the Federal Register, to any of those applicants that—

* * * * *

(b) If funds are available to fund only one additional development grant and each of the next fundable applications has received the same number of points under § 607.20 or 607.22, the Secretary awards additional points, as provided in the application package or in a notice published in the Federal Register, to any of those applicants that—

* * * * *

PART 611—TEACHER QUALITY ENHANCEMENT GRANTS PROGRAM

11. The authority citation for part 611 continues to read as follows:

Authority: 20 U.S.C. 1021 et seq. and 1024(e), unless otherwise noted.

§ 611.2 [Amended]

12. Section 611.2 is amended by, in paragraph (a), removing the words “paragraphs (a)(1), (a)(2)(iii), or (a)(3)(iii) of § 611.3” and adding, in their place, the words “paragraphs (a)(1), (a)(2)(i)(B), or (a)(2)(ii) of § 611.3”.

13. Section 611.3 is amended by—

A. Revising paragraphs (a)(2) and (a)(3); and

B. In paragraph (b), removing the words “paragraphs (b)(2)(ii) and (b)(3)(ii)” and adding, in their place, the words “paragraphs (a)(2)(i)(A) and (a)(3)(i)(A)”.

The revisions read as follows:

§ 611.3 What procedures does the Secretary use to award a grant?

* * * * *

(a) * * *

(2) For the Partnership Grants Program, the Secretary may use a two-stage application process to determine which applications to fund.

(i) If the Secretary uses a two-stage application process, the Secretary uses—

(A) The selection criteria in §§ 611.21 through 611.22 to evaluate pre-applications submitted for new grants, and to determine those applicants to invite to submit full program applications; and

(B) For those applicants invited to submit full applications, the selection criteria and competitive preference in §§ 611.23 through 611.25 to evaluate the full program applications.

(ii) If the Secretary does not use a two-stage application process, the Secretary uses the selection criteria and competitive preference in §§ 611.23 through 611.25 to evaluate applications.

(3) For the Teacher Recruitment Grants Program, the Secretary may use a two-stage application process to determine which applications to fund.

(i) If the Secretary uses a two-stage application process, the Secretary uses—

(A) The selection criteria in § 611.31 to evaluate pre-applications submitted for new grants, and to determine those applicants to invite to submit full program applications; and

(B) For those applicants invited to submit full applications, the selection criteria in § 611.32 to evaluate the full program applications.

(ii) If the Secretary does not use a two-stage application process, the Secretary uses the selection criteria in § 611.32 to evaluate applications.

* * * * *

PART 637—MINORITY SCIENCE AND ENGINEERING IMPROVEMENT PROGRAM

14. The authority citation for part 637 continues to read as follows:

Authority: 20 U.S.C. 1067-1067c, 1067g-1067k, 1068, 1068b, unless otherwise noted.

15. Section 637.31 is amended by—

A. Revising paragraph (b); and

B. Removing paragraph (c) and redesignating paragraphs (d)(1), (2), and (3) as paragraphs (c)(1), (2), and (3), respectively.

The revision reads as follows:

§ 637.31 How does the Secretary evaluate an application?

* * * * *

(b) The Secretary informs applicants of the maximum possible score for each criterion in the application package or in a notice published in the Federal Register.

* * * * *

16. Section 637.32 is amended by—

A. Revising the introductory text;

B. Removing all of the parentheticals that end in “points)”;

C. In paragraph (a)(2)(v), removing the parenthetical “(See EDGAR 34 CFR 75.581)” and adding, in its place, the parenthetical “(See 34 CFR 75.580)”.

D. In paragraph (b)(2)(iv), removing the word “groups” the second time it appears and adding, in its place, the word “group”;

E. In paragraph (d), removing the parenthetical “(See EDGAR 34 CFR 75.590—Evaluation by the grantee; where applicable)” and adding, in its place, the parenthetical “(See 34 CFR 75.590)';

F. Removing the authority citation that appears immediately before paragraph (f); and

G. Revising paragraph (f)(2)(iii).

The revisions read as follows:

§ 637.32 What selection criteria does the Secretary use?

The Secretary evaluates applications on the basis of the criteria in this section.

* * * * *

(f) * * *

(2) * * *

(iii) Involvement of appropriate individuals, especially science faculty, in identifying the institutional needs.

* * * * *

PART 648—GRADUATE ASSISTANCE IN AREAS OF NATIONAL NEED

17. The authority citation for part 648 continues to read as follows:

Authority: 20 U.S.C. 1135-1135ee, unless otherwise noted.

18. Section 648.30 is amended by—

A. Revising paragraph (b); and

B. Removing paragraph (c).

The revision reads as follows:

§ 648.30 How does the Secretary evaluate an application?

* * * * *

(b) The Secretary informs applicants of the maximum possible score for each criterion in the application package or in a notice published in the Federal Register.

19. Section 648.31 is amended by—

A. Removing all of the parentheticals that end in points)”; and

B. Revising the introductory text to read as follows:

§ 648.31 What selection criteria does the Secretary use?

The Secretary evaluates an application on the basis of the criteria in this section.

* * * * *

PART 656—NATIONAL RESOURCE CENTERS PROGRAM FOR FOREIGN LANGUAGE AND AREA STUDIES OR FOREIGN LANGUAGE AND INTERNATIONAL STUDIES

20. The authority citation for part 656 continues to read as follows:

Authority: 20 U.S.C. 1122, unless otherwise noted.

21. Section 656.20 is amended by revising paragraph

(b) to read as follows:

§ 656.20 How does the Secretary evaluate an application?

* * * * *

(b) The Secretary informs applicants of the maximum possible score for each criterion in the application package or in a notice published in the Federal Register.

* * * * *

22. Section 656.21 is amended by—

A. Removing all of the parentheticals that end in “points)''; and

B. Revising the introductory text to read as follows:

§ 656.21 What selection criteria does the Secretary use to evaluate an application for a comprehensive Center?

The Secretary evaluates an application for a comprehensive Center on the basis of the criteria in this section.

* * * * *

23. Section 656.22 is amended by—

A. Removing all of the parentheticals that end in “points)''; and

B. Revising the introductory text to read as follows:

§ 656.22 What selection criteria does the Secretary use to evaluate an application for an undergraduate Center?

The Secretary evaluates an application for an undergraduate Center on the basis of the criteria in this section.

* * * * *

PART 657—FOREIGN LANGUAGE AND AREA STUDIES FELLOWSHIPS PROGRAM

24. The authority citation for part 657 continues to read as follows:

Authority: 20 U.S.C. 1122, unless otherwise noted.

25. Section 657.20 is amended by—

A. In paragraph (a), adding the word “institutional'' before the word “application''; and

B. Revising paragraph (b) to read as follows:

§ 657.20 How does the Secretary evaluate an institutional application for an allocation of fellowships?

* * * * *

(b) The Secretary informs applicants of the maximum possible score for each criterion in the application package or in a notice published in the Federal Register.

* * * * *

26. Section 657.21 is amended by—

A. Removing all of the parentheticals that end in “points)''; and

B. Adding introductory text to read as follows:

§ 657.21 What criteria does the Secretary use in selecting institutions for an allocation of fellowships?

The Secretary evaluates an institutional application for an allocation of fellowships on the basis of the criteria in this section.

* * * * *

PART 658—UNDERGRADUATE INTERNATIONAL STUDIES AND FOREIGN LANGUAGE PROGRAM

27. The authority citation for part 658 continues to read as follows:

Authority: 20 U.S.C. 1124, unless otherwise noted.

28. Section 658.30 is revised to read as follows:

§ 658.30 How does the Secretary evaluate an application?

(a) The Secretary evaluates an application from an institution of higher education or a combination of such institutions on the basis of the criteria in §§ 658.31 and 658.32. The Secretary informs applicants of the maximum possible score for each criterion in the application package or in a notice published in the Federal Register.

(b) The Secretary evaluates an application from an agency or organization or professional or scholarly association on the basis of the criteria in §§ 658.31 and 658.33. The Secretary informs applicants of the maximum possible score for each criterion in the application package or in a notice published in the Federal Register.

(Authority: 20 U.S.C. 1124)

29. Section 658.31 is amended by—

A. Removing the parentheticals “(10)” and “(5)” each time they appear; and

B. Revising the introductory text to read as follows:

§ 658.31 What selection criteria does the Secretary use?

The Secretary evaluates an application for a project under this program on the basis of the criteria in this section.

* * * * *

30. Section 658.32 is amended by—

A. Removing the parentheticals “(15)” and “(10)” each time they appear; and

B. Revising the introductory text to read as follows:

§ 658.32 What additional criteria does the Secretary apply to institutional applications?

In addition to the criteria referred to in § 658.31, the Secretary evaluates an application submitted by an institution of higher education or a combination of such institutions on the basis of the criteria in this section.

* * * * *

31. Section 658.33 is amended by—

A. In paragraph (a), removing the parenthetical “(30)”; and

B. Revising the introductory text to read as follows:

§ 658.33 What additional criterion does the Secretary apply to applications from organizations and associations?

In addition to the criteria referred to in § 658.31, the Secretary evaluates an application submitted by an institution of higher education or a combination of such institutions on the basis of the criterion in this section.

* * * * *

PART 660—THE INTERNATIONAL RESEARCH AND STUDIES PROGRAM

32. The authority citation for part 660 continues to read as follows:

Authority: 20 U.S.C. 1125, unless otherwise noted.

33. Section 660.30 is revised to read as follows:

§ 660.30 How does the Secretary evaluate an application?

(a) The Secretary evaluates an application for a research project, a study, or a survey on the basis of the criteria in §§ 660.31 and 660.32. The Secretary informs applicants of the maximum possible score for each criterion in the application package or in a notice published in the Federal Register.

(b) The Secretary evaluates an application for the development of specialized instructional materials on the basis of the criteria in §§ 660.31 and 660.33. The Secretary informs applicants of the maximum possible score for each criterion in the application package or in a notice published in the Federal Register.

(Authority: 20 U.S.C. 1125.)

34. Section 660.31 is amended by—

A. Removing all of the parentheticals that end in “points)''; and

B. Revising the introductory text to read as follows:

§ 660.31 What selection criteria does the Secretary use for all applications for a grant?

The Secretary evaluates an application for a project under this program on the basis of the criteria in this section. The Secretary informs applicants of the maximum possible score for each criterion in the application package or in a notice published in the Federal Register.

* * * * *

35. Section 660.32 is amended by—

A. Removing all of the parentheticals that end in “points)''; and

B. Revising the introductory text to read as follows:

§ 660.32 What additional selection criteria does the Secretary use for an application for a research project, a survey, or a study?

In addition to the criteria referred to in § 660.31, the Secretary evaluates an application for a research project, study, or survey on the basis of the criteria in this section.

* * * * *

36. Section 660.33 is amended by—

A. Removing all of the parentheticals that end in “points)''; and

B. Revising the introductory text to read as follows:

§ 660.33 What additional selection criteria does the Secretary use for an application to develop specialized instructional materials?

In addition to the criteria referred to in § 660.31, the Secretary evaluates an application to develop specialized instructional materials on the basis of the criteria in this section.

* * * * *

PART 661—BUSINESS AND INTERNATIONAL EDUCATION PROGRAM

37. The authority citation for part 661 continues to read as follows:

Authority: 20 U.S.C. 1130-1130b, unless otherwise noted.

38. Section 661.30 is revised to read as follows:

§ 661.30 How does the Secretary evaluate an application?

The Secretary evaluates an application for a grant under this program on the basis of the criteria in § 661.31. The Secretary informs applicants of the maximum possible score for each criterion in the application package or in a notice published in the Federal Register.

(Authority: 20 U.S.C. 1130a.)

39. Section 661.31 is amended by—

A. Removing all of the parentheticals that end in “points)'';

B. In paragraph (e), adding the punctuation “.” after the word “resources''; and

C. Revising the introductory text to read as follows:

§ 661.31 What selection criteria does the Secretary use?

The Secretary evaluates an application for a grant under this program on the basis of the criteria in this section.

* * * * *

PART 662—FULBRIGHT-HAYS DOCTORAL DISSERTATION RESEARCH ABROAD FELLOWSHIP PROGRAM

40. The authority citation for part 662 continues to read as follows:

Authority: Section 102(b)(6) of the Mutual Educational and Cultural Exchange Act of 1961 (Fulbright-Hays Act), 22 U.S.C. 2452(b)(6), unless otherwise noted.

41. Section 662.21 is amended by—

A. Removing all of the parentheticals that end in “points)” and removing the parentheticals “(10)”, “(15)”, and “(5)” wherever they appear;

B. In paragraph (c)(2), removing the word “a''; and

C. Revising paragraph (a) to read as follows:

§ 662.21 What criteria does the Secretary use to evaluate an application for a fellowship?

(a) General. The Secretary evaluates an application for a fellowship on the basis of the criteria in this section. The Secretary informs applicants of the maximum possible score for each criterion in the application package or in a notice published in the Federal Register.

* * * * *

PART 663—FULBRIGHT-HAYS FACULTY RESEARCH ABROAD FELLOWSHIP PROGRAM

42. The authority citation for part 663 continues to read as follows:

Authority: Sec. 102(b)(6) of the Mutual Educational and Cultural Exchange Act of 1961 (Fulbright-Hays Act), 22 U.S.C. 2452(b)(6), unless otherwise noted.

43. Section 663.21 is amended by—

A. Removing all of the parentheticals that end in “points)” and removing the parentheticals “(10)”, “(15)”, and “(5)” wherever they appear; and

B. Revising paragraph (a) to read as follows:

§ 663.21 What criteria does the Secretary use to evaluate an application for a fellowship?

(a) General. The Secretary evaluates an application for a fellowship on the basis of the criteria in this section. The Secretary informs applicants of the maximum possible score for each criterion in the application package or in a notice published in the Federal Register.

* * * * *

PART 664—FULBRIGHT-HAYS GROUP PROJECTS ABROAD FELLOWSHIP PROGRAM

44. The authority citation for part 664 continues to read as follows:

Authority: 22 U.S.C. 2452(b)(6), unless otherwise noted.

45. Section 664.30 is amended by—

A. Revising paragraph (a);

B. Removing paragraph (b); and

C. Redesignating paragraphs (c) and (d) as paragraphs (b) and (c), respectively.

The revision reads as follows:

§ 664.30 How does the Secretary evaluate an application?

(a) The Secretary evaluates an application for a Group Project Abroad on the basis of the criteria in § 664.31. The Secretary informs applicants of the maximum possible score for each criterion in the application package or in a notice published in the Federal Register.

* * * * *

46. Section 664.31 is amended by—

A. Removing all of the parentheticals that end in “points).” and removing the parenthetical that ends in “points)''; and

B. Revising the introductory text to read as follows:

§ 664.31 What selection criteria does the Secretary use?

The Secretary uses the criteria in this section to evaluate applications for the purpose of recommending to the J. William Fulbright Foreign Scholarship Board Group Projects Abroad for funding under this part.

* * * * *

PART 669—LANGUAGE RESOURCE CENTERS PROGRAM

47. The authority citation for part 669 continues to read as follows:

Authority: 20 U.S.C. 1123, unless otherwise noted.

48. Section 669.20 is revised to read as follows:

§ 669.20 How does the Secretary evaluate an application?

The Secretary evaluates an application for an award on the basis of the criteria contained in §§ 669.21 and 669.22. The Secretary informs applicants of the maximum possible score for each criterion in the application package or in a notice published in the Federal Register.

(Authority: 20 U.S.C. 1123.)

49. Section 669.21 is amended by—

A. Removing all of the parentheticals that end in “points)'';

B. In paragraph (c), removing the symbol “§ ''; and

C. Revising the introductory text to read as follows:

§ 669.21 What selection criteria does the Secretary use?

The Secretary evaluates an application on the basis of the criteria in this section.

* * * * *

[FR Doc. 04-28021 Filed 12-21-04; 8:45 am]

BILLING CODE 4000-01-P